NATIONAL FOUNDATION ON THE ARTS AND THE HUMANITIES

National Endowment for the Humanities

Meetings of Humanities Panel

AGENCY: National Endowment for the Humanities.

ACTION: Notice of meetings.

SUMMARY: The National Endowment for the Humanities will hold twenty-two meetings of the Humanities Panel, a federal advisory committee, during September, 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See Supplementary Information for meeting room numbers.

FOR FURTHER INFORMATION CONTACT: Lisette Voyatzis, Committee Management Officer, 400 7th Street SW., Room, 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: September 1, 2015.

TIME: 8:30 a.m. to 5:00 p.m.

ROOM: P002.

This meeting will discuss applications for the Preservation and Access Education and Training grant program, submitted to the Division of Preservation and Access.

2. DATE: September 1, 2015.

TIME: 8:30 a.m. to 5:00 p.m.

ROOM: 4002.

This meeting will discuss applications on the subjects of Europe and the Middle East for the Bridging Cultures through Film grant program, submitted to the Division of Public Programs.

3. DATE: September 2, 2015.

TIME: 8:30 a.m. to 5:00 p.m.

ROOM: 2002.

This meeting will discuss applications on the subject of the Americas for the Bridging Cultures through Film grant program, submitted to the Division of Public Programs.

4. DATE: September 2, 2015.

TIME: 8:30 a.m. to 5:00 p.m.

ROOM: 4002.

This meeting will discuss applications on the subjects of Literature and Art for Digital Projects for the Public: Production Grants, submitted to the Division of Public Programs.

5. DATE: September 2, 2015.

TIME: 8:30 a.m. to 5:00 p.m.

ROOM: Virtual Meeting.

This meeting will discuss applications on the subjects of Archaeology and Anthropology for the Research and Development grant program, submitted to the Division of Preservation and Access.

6. DATE: September 3, 2015.

TIME: 8:30 a.m. to 5:00 p.m.

ROOM: 4002.

This meeting will discuss applications on the subject of Ethnic Studies for Digital Projects for the Public: Production Grants, submitted to the Division of Public Programs.

7. DATE: September 3, 2015.

TIME: 8:30 a.m. to 5:00 p.m.

ROOM: P002.

This meeting will discuss applications on the subjects of Media and Digital Preservation for the Research and Development grant program, submitted to the Division of Preservation and Access.

8. DATE: September 4, 2015.

TIME: 8:30 a.m. to 5:00 p.m.

ROOM: Virtual Meeting.

This meeting will discuss applications on the subject of Conservation for the Research and Development grant program, submitted to the Division of Preservation and Access.

9. DATE: September 8, 2015.

TIME: 8:30 a.m. to 5:00 p.m.

ROOM: Conference Call.

This meeting will discuss applications for the Humanities Initiatives at Historically Black Colleges and Universities grant program, submitted to the Division of Education Programs.

10. DATE: September 9, 2015.

TIME: 8:30 a.m. to 5:00 p.m.

ROOM: Conference Call.

This meeting will discuss applications for the Humanities Initiatives at Hispanic-Serving Institutions, submitted to the Division of Education Programs.

11. DATE: September 9, 2015.

TIME: 8:30 a.m. to 5:00 p.m.

ROOM: 2002.

This meeting will discuss applications on the subjects of Africa and Asia for the Bridging Cultures through Film grant program, submitted to the Division of Public Programs.

12. DATE: September 9, 2015.

TIME: 8:30 a.m. to 5:00 p.m.

ROOM: 4002.

This meeting will discuss applications on the subject of U.S. History and Culture for Digital Projects for the Public: Production Grants, submitted to the Division of Public Programs.

13. DATE: September 10, 2015.

TIME: 8:30 a.m. to 5:00 p.m.

ROOM: Conference Call.

This meeting will discuss applications for the Humanities Initiatives at Historically Black Colleges and Universities, submitted to the Division of Education Programs.

14. DATE: September 10, 2015.

TIME: 8:30 a.m. to 5:00 p.m.

ROOM: 4002.

This meeting will discuss applications on the subject of U.S. History and Culture for Digital Projects for the Public: Production Grants, submitted to the Division of Public Programs.

15. DATE: September 11, 2015.

TIME: 8:30 a.m. to 5:00 p.m.

ROOM: 4002.

This meeting will discuss applications on the subject of World History and Culture for Digital Projects for the Public: Production Grants, submitted to the Division of Public Programs.

16. DATE: September 15, 2015.

TIME: 8:30 a.m. to 5:00 p.m.

ROOM: 4002.

This meeting will discuss applications on the subject of U.S. History and Culture for Digital Projects for the Public: Production Grants, submitted to the Division of Public Programs.

17. DATE: September 16, 2015.

TIME: 8:30 a.m. to 5:00 p.m.

ROOM: 4002.

This meeting will discuss applications on the subjects of Race and Immigration for the Humanities in the Public Square grant program, submitted to the Division of Public Programs.

18. DATE: September 17, 2015.

TIME: 8:30 a.m. to 5:00 p.m.

ROOM: 4002.

This meeting will discuss applications on the subject of Science and the Humanities for the Humanities in the Public Square grant program, submitted to the Division of Public Programs.

19. DATE: September 18, 2015.

TIME: 8:30 a.m. to 5:00 p.m.

ROOM: 4002.

This meeting will discuss applications on the subjects of Art and Literature for the Humanities in the Public Square grant program, submitted to the Division of Public Programs.

20. DATE: September 21, 2015.

TIME: 8:30 a.m. to 5:00 p.m.

ROOM: 4002.

This meeting will discuss applications on the subject of Civic Engagement for the Humanities in the Public Square grant program, submitted to the Division of Public Programs.

21. DATE: September 24, 2015.

TIME: 8:30 a.m. to 5:00 p.m.

ROOM: 4002.

This meeting will discuss applications on the subject of Local History for the Humanities in the Public Square grant program, submitted to the Division of Public Programs.

22. DATE: September 29, 2015.

TIME: 8:30 a.m. to 5:00 p.m.

ROOM: P002.

This meeting will discuss applications for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: August 11, 2015.
Lisette Voyatzis,
Committee Management Officer.

[FR Doc. 2015-20144 Filed 8-13-15; 8:45 am]

BILLING CODE 7536-01-P